NATIONAL CREDIT UNION ADMINISTRATION

Agency Information Collection Activities: Proposed Collection; Comment Request

AGENCY: National Credit Union Administration (NCUA).

ACTION: Notice and request for comment.

SUMMARY: The National Credit Union Administration (NCUA), as part of a continuing effort to reduce paperwork and respondent burden, invites the general public and other Federal agencies to comment on the following extensions of currently approved collections, as required by the Paperwork Reduction Act of 1995.

DATES: Written comments should be received on or before June 24, 2022 to be assured consideration.

ADDRESSES: Interested persons are invited to submit written comments on the information collection to Dawn Wolfgang, National Credit Union Administration, 1775 Duke Street, Suite 6032, Alexandria, Virginia 22314; email at PRAComments@NCUA.gov. Given the limited in-house staff because of the COVID-19 pandemic, email comments are preferred.

FOR FURTHER INFORMATION CONTACT: Requests for additional information should be directed to Dawn Wolfgang at the address above or telephone 703-548-2279.

SUPPLEMENTARY INFORMATION: OMB Number: 3133-0004.

Title: NCUA Call Report.

Form: NCUA Form 5300.

Type of Review: Extension of a currently approved collection.

Abstract: Sections 106 and 202 of the Federal Credit Union Act require federally insured credit unions to make financial reports to the NCUA. Section 741.5 prescribes the method in which federally insured credit unions must submit this information to the NCUA. NCUA Form 5300, Call Report, is used to file quarterly financial and statistical data through the NCUA's online portal, CUOnline.

The financial and statistical information is essential to the NCUA in carrying out its responsibility for supervising federal credit unions. The information also enables the NCUA to monitor all federally insured credit unions with National Credit Union Share Insurance Fund (NCUSIF) insured share accounts.

Affected Public: Private Sector: Not-for-profit institutions.

Estimated No. of Respondents: 5,097.

Estimated No. of Responses per Respondent: 4.

Estimated Total Annual Responses: 20,388.

Estimated Burden Hours per Response: 4.

Estimated Total Annual Burden Hours: 81,552.

Reason for Change: The Office of Management and Budget (OMB) approved a revision to this information collection requirement as an emergency in accordance with 5 CFR 1320.13, which is set to expire July 31, 2022. The Call Report was restructured to accommodate the Complex Credit Union Leverage Ratio (CCULR) Calculation schedule by adding a schedule for the CCULR Calculation and to reestablish the account code for the collection of Noncontrolling Interest in Consolidated Subsidiaries (previously described as Miscellaneous Equity and erroneously omitted from the Form 5300). The CCULR changes were attributed to a final rule published December 23, 2021, at 86 FR 72784, that provided a simplified measure of capital adequacy for federally insured, natural-person credit unions classified as complex.

OMB Number: 3133-0185.

Title: NCUA Vendor Registration Form.

Form: NCUA Form 1772.

Type of Review: Extension of a currently approved collection.

Abstract: Section 342 of the Dodd-Frank Wall Street Reform and Consumer Protection Act (Act) (Pub. L. 111-203) calls for agencies to promote the inclusion of minority and women-owned firms in their business activities. The Act also requires agencies to annually report to Congress the total amounts paid to minority and women-owned businesses. In order for NCUA to comply with this Congressional mandate, NCUA Form 1772 is used to collect certain information from its current and potential vendors, so that it can identify businesses that meet the criteria. The vendor information is to be submitted to the agency on a one-time basis and will be used to assign an ownership status to the vendor (i.e., minority-owned business, woman-owned business) per the requirements of the Act. The NCUA will use the vendor-entered ownership status information to help calculate the total amounts of contracting dollars awarded and paid to minority-owned and women-owned businesses.

Affected Public: Private Sector: Businesses or other for-profits.

Estimated No. of Respondents: 200.

Estimated Annual Frequency: 1.

Estimated Annual Number of Responses: 200.

Estimated Burden Hours per Response: 10 minutes.

Estimated Total Annual Burden Hours: 33.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Melane Conyers-Ausbrooks, Secretary of the Board, the National Credit Union Administration, on April 19, 2022.

Dated: April 20, 2022.
Dawn D. Wolfgang,
NCUA PRA Clearance Officer.

[FR Doc. 2022-08753 Filed 4-22-22; 8:45 am]

BILLING CODE 7535-01-P